POSTAL REGULATORY COMMISSION

[Docket No. C2023-6; Presiding Officer's Ruling No. 3]

Service Standard Changes

AGENCY: Postal Regulatory Commission.

ACTION: Notice.

SUMMARY: The Commission is providing notice that a hearing format and procedural schedule have been established in this proceeding. This notice informs the public of the hearing format and procedural schedule.

DATES: Complainant's Initial Brief and Supporting Evidence are due: January 3, 2024; Postal Service's Deadline to Request Written Cross-Examination of Complainant's Witnesses: January 5, 2024; Complainant's Response to Written Cross-Examination, if necessary, is due: January 12, 2024; Postal Service's Answering Brief and Supporting Evidence are due: January 25, 2024; Complainant's Deadline to Request Written Cross-Examination of Postal Service's Witnesses: January 29, 2024; Postal Service's Response to Written Cross-Examination, if necessary, is due: February 5, 2024; Complainant's Reply Brief and Supporting Evidence is due: February 12, 2024; Postal Service's Deadline to Request Written Cross-Examination of Complainant's Reply Witnesses: February 14, 2024; Complainant's Response to Written Cross-Examination, if necessary, is due: February 21, 2024.

ADDRESSES: Submit notices of intervention electronically via the Commission's Filing Online system at https://www.prc.gov. Persons interested in intervening who cannot submit their views electronically should contact the person identified in the FOR FURTHER INFORMATION CONTACT: David A. Trissell, General Counsel, at 202-789-6820. For additional information, Presiding Officer's Ruling No. 3 can be accessed electronically through the Commission's website at https://www.prc.gov.

FOR FURTHER INFORMATION CONTACT: David A. Trissell, General Counsel, at 202-789-6820.

SUPPLEMENTARY INFORMATION:

I. Hearing Format

II. Hearing Schedule

III. Ruling

I. Hearing Format

Pursuant to the discussion at the December 4, 2023 prehearing videoconference, the parties agree that the hearing should be conducted by written submission of material only. See 39 CFR 3010.303(a). The parties reserve the right to request oral cross-examination of witnesses by motion. See 39 CFR 3010.303(b). The Presiding Officer may also request oral testimony or cross-examination on his own motion. Id.

To promote the efficient resolution of the remaining issues, the parties will file briefs and supporting evidence at the same time. The parties' briefs shall address each of the two remaining disputed issues of fact identified by the Commission and explain how the evidence presented supports or does not support the three elements of a claim of undue or unreasonable discrimination under 39 U.S.C. 403(c).¹ The briefs should also comply with the relevant requirements of 39 CFR 3010.330(b) to the extent practicable and include proposed findings of fact and conclusions of law.

¹ See Order Partially Denying United States Postal Service's Motion to Dismiss and Notice of Limited Formal Proceedings, September 18, 2023, at 7-8 (Order No. 6688).

Complainant's initial brief and the Postal Service's answering brief may not exceed 20 pages. Complainant's reply brief may not exceed 10 pages. Cover pages, tables of contents, tables of authorities, signature blocks, addenda containing statutes, rules or regulations, and exhibits are excluded from the page limits. Motions to exceed the applicable length limitations will be granted only for compelling reasons.

II. Hearing Schedule

The schedule for the submission of briefs and evidence shall be as follows:

Complainant's Initial Brief and Supporting Evidence—January 3, 2024

Postal Service's Deadline to Request Written Cross-Examination of Complainant's Witnesses—January 5, 2024

Complainant's Response to Written Cross-Examination, if necessary—January 12, 2024

Postal Service's Answering Brief and Supporting Evidence—January 25, 2024

Complainant's Deadline to Request Written Cross-Examination of Postal Service's Witnesses—January 29, 2024

Postal Service's Response to Written Cross-Examination, if necessary—February 5, 2024

Complainant's Reply Brief and Supporting Evidence—February 12, 2024

Postal Service's Deadline to Request Written Cross-Examination of Complainant's Reply Witnesses—February 14, 2024

Complainant's Response to Written Cross-Examination, if necessary—February 21, 2024

All submissions must be filed electronically on the Commission's docket by 4:30 p.m. Eastern time on the date due. If either party seeks an extension of a filing deadline, that party must make a good faith effort to contact the opposing party to find a mutually agreeable new date before filing a motion for extension of time. This good faith effort requires the moving party to place at least one telephone call or send one email message to the opposing party. Any motion for extension of time must state whether the opposing party consents to the requested extension.

Any motion by a party requesting oral cross-examination of any witness, or to make any other change to the hearing format, must be filed no later than February 16, 2024, if the Postal Service does not request written cross-examination of any of Complainant's reply witnesses, or February 26, 2024, if the Postal Service does request written cross-examination of any of Complainant's reply witnesses. A motion requesting oral cross-examination must identify the witness statement(s) at issue, explain why oral cross-examination is necessary to clarify the witness' response to written cross-examination, and state what additional information or clarification may be adduced through oral cross-examination that would be helpful to resolve this case. See 39 CFR 3030.321(g)(5)(i). If permitted, oral cross-examination will be limited to matters within the scope of the written cross-examination. A party may not seek new information through oral cross-examination that could have been obtained through the initial written cross-examination.

III. Ruling

1. The parties and counsel shall follow the hearing format and schedule established by this Presiding Officer's Ruling.

2. The Secretary shall arrange for publication of the hearing schedule in the Federal Register.

Erica A. Barker,
Secretary.

[FR Doc. 2023-27137 Filed 12-8-23; 8:45 am]

BILLING CODE 7710-FW-P